DEPARTMENT OF TRANSPORTATION

Federal Railroad Administration

[Docket No. FRA-2017-0002-N-24]

Proposed Agency Information Collection Activities; Comment Request

AGENCY: Federal Railroad Administration (FRA), Department of Transportation (DOT).

ACTION: Notice and comment request.

SUMMARY: Under the Paperwork Reduction Act of 1995 (PRA), this notice announces that FRA is forwarding the currently approved Information Collection Requests (ICRs), abstracted below, to the Office of Management and Budget (OMB) for review and comment. The ICRs describe the information collections FRA is submitting for renewal and their expected burden.

DATES: Comments must be submitted on or before November 20, 2017.

ADDRESSES: Send comments regarding these information collections to the Office of Information and Regulatory Affairs, Office of Management and Budget, 725 17th Street NW., Washington, DC 20503, Attention: FRA Desk Officer. Comments may also be sent via email to OMB at the following address: oira_submissions@omb.eop.gov.

FOR FURTHER INFORMATION CONTACT: Mr. Robert Brogan, Information Collection Clearance Officer, Office of Railroad Safety, Safety Regulatory Analysis Division, RRS-21, Federal Railroad Administration, 1200 New Jersey Avenue SE., Mail Stop 25, Washington, DC 20590 (Telephone: (202) 493-6292); or Ms. Kim Toone, Information Collection Clearance Officer, Office of Administration, Office of Information Technology, RAD-20, Federal Railroad Administration, 1200 New Jersey Avenue SE., Mail Stop 35, Washington, DC 20590 (Telephone: (202) 493-6132). (These telephone numbers are not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8(d)(1), and 1320.12. On June 30, 2017, FRA published a 60-day notice in the Federal Register soliciting comment on the ICRs for which it is now seeking OMB approval. See 82 FR 29976. FRA received no comments in response to the notice. The summaries below describe the ICRs and their expected burden. FRA is submitting these renewal requests for clearance by OMB, as the PRA requires.

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication. 5 CFR 1320.12(c); see also 60 FR 44983, Aug. 29, 1995.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

Title: Railroad Operating Rules.

OMB Control Number: 2130-0035.

Abstract: Title 49 CFR 217 requires Class I and Class II railroads to file with FRA copies of their operating rules, timetables, timetable special instructions, and subsequent amendments (49 CFR 217.7(a) and (b)), while Class III railroads are required to retain copies of these documents at their systems headquarters (49 CFR 217.7(c)). Also, 49 CFR 220.21(b) requires railroads to retain one copy of their current operating rules with respect to radio communications at a specified location. These railroads are also required to retain one copy of each subsequent amendment thereto. These documents must be made available to FRA upon request. FRA uses the information collected to determine the railroads' rules and practices with respect to train operations and instructions provided by the railroads to their operating employees.

Type of Request: Extension with change of a currently approved information collection.

Affected Public: Businesses.

Form(s): N/A.

Total Estimated Annual Responses: 188,591,125.

Total Estimated Annual Burden: 4,797,590 hours.

Title: Track Safety Standards; Concrete Crossties.

OMB Control Number: 2130-0592.

Abstract: On April 1, 2011, FRA amended 49 CFR 213 (Track Safety Standards) to ensure safe operations over track constructed with concrete crossties. FRA issued specific requirements for effective concrete crossties, rail fastening systems connected to concrete crossties, and automated inspections of track constructed with concrete crossties. FRA uses the information collected under 49 CFR 213.234 to ensure that automated track inspections of track constructed with concrete crossties are carried out as specified in this section to supplement visual inspections by Class I and Class II railroads, intercity passenger railroads, and commuter railroads or small governmental jurisdictions that serve populations greater than 50,000.

Type of Request: Extension with change of a currently approved information collection.

Affected Public: Businesses.

Form(s): N/A.

Total Estimated Annual Responses: 2,318.

Total Estimated Annual Burden: 4,875 hours.

Under 44 U.S.C. 3507(a) and 5 CFR 1320.5(b) and 1320.8(b)(3)(vi), FRA informs all interested parties that it may not conduct or sponsor, and a respondent is not required to respond to a collection of information, unless it displays a currently valid OMB control number.

Authority: 44 U.S.C. 3501-3520.

Brett A. Jortland,
Acting Deputy Chief Counsel.

[FR Doc. 2017-22650 Filed 10-18-17; 8:45 am]

BILLING CODE 4910-06-P